DEPARTMENT OF HEALTH AND HUMAN SERVICES

Health Resources and Services Administration

Notice of Establishment and Solicitation of Nominations for Tribal Advisory Council

AGENCY: Health Resources and Services Administration (HRSA), Department of Health and Human Services (HHS).

ACTION: Establishment of HRSA Tribal Advisory Council and Request for Tribal Delegate Member Nominations.

SUMMARY: HRSA is soliciting comments and recommendations regarding HRSA's intent to establish the HRSA Tribal Advisory Council (TAC) and is seeking nominations of qualified tribal officials as candidates for consideration for appointment as voluntary delegate members of the HRSA TAC. The HRSA TAC will engage in regular and meaningful collaboration and consultation with tribal officials on policies that have tribal implications and a substantial direct effect on Indian tribes. The HRSA TAC will be the vehicle for acquiring a broad range of tribal views, determining the impact of HRSA programs on the American Indian/Alaska Native (AI/AN) health systems and population, developing innovative approaches to deliver health care and assisting with effective tribal consultations. HRSA is also seeking nominations of qualified candidates to fill up to 12 positions on the HRSA TAC; one authorized tribal representative (and one designated alternate) from each of the 12 Indian Health Service geographic areas.

DATES: Nominations for membership on the HRSA TAC must be received on or before May 7, 2020.

ADDRESSES: Written comments on the described intent to establish the HRSA TAC and nomination packages must be submitted to:

1. Submission of comments on the intent to establish the HRSA TAC. CAPT Elijah K. Martin, Jr., EdD, MPH, Manager, Tribal Health Affairs, Office of Health Equity (OHE), HRSA, 5600 Fishers Lane, Room 13N44, Rockville, Maryland 20857, ATTN: HRSA TAC Establishment.

2. Submission of HRSA TAC nomination packages. CAPT Elijah K. Martin, Jr., EdD, MPH, Manager, Tribal Health Affairs, OHE, HRSA, 5600 Fishers Lane, Room 13N44, Rockville, Maryland 20857, ATTN: HRSA TAC Nomination Package.

3. Electronic submission of comments on the intent to establish the HRSA TAC: aianhealth@hrsa.gov, SUBJECT: HRSA TAC Establishment.

4. Electronic submission of HRSA TAC Nomination Packages: aianhealth@hrsa.gov, SUBJECT: HRSA TAC Nomination Package.

FOR FURTHER INFORMATION CONTACT: CAPT Elijah K. Marin, Jr., EdD, MPH, Manager, using the contact information provided above, or Michelle Allender, RN, BSN, MS, Director, OHE, HRSA, 5600 Fishers Lane, Room 13N09, Rockville, Maryland 20857, or 301-443-7526.

A copy of the HRSA TAC charter and list of the membership, once established, may be obtained by submitting a written request to: aianhealth@hrsa.gov.

SUPPLEMENTARY INFORMATION: The HRSA TAC will be established to engage in regular and meaningful collaboration and consultation with tribal officials on policies that have tribal implications and substantial direct effect on Indian tribes. The HRSA TAC will be the vehicle for acquiring a broad range of tribal views, determining the impact of HRSA programs on the AI/AN health systems and population, developing innovative approaches to deliver health care, and assisting with effective tribal consultation. The HRSA TAC will hold one meeting each calendar year, or at the discretion of HRSA in consultation with the Chair. These meetings may be held in-person or virtually.

The HRSA TAC will support, not supplant, any other government-to-government consultation activities that HRSA undertakes. In addition to assisting HRSA in the planning and coordination of tribal consultation sessions, the HRSA TAC will advise HRSA regarding the government-to-government consultation process and will help ensure that HRSA activities and policies that impact Indian country are brought to the attention of all tribal leaders. The HRSA TAC Charter will comply with the “Unfunded Mandates Reform Act Exemption” to the Federal Advisory Committee Act (FACA) found in Section 204 of the Unfunded Mandates Reform Act, P.L. 104-4, and therefore will be exempt from FACA, 5 U.S.C. App. 2.¹

¹ In particular, the HRSA TAC meetings will be held exclusively between federal officials and elected officers of state, local, and tribal governments (or their designated employees with authority to act on their behalf) acting in their official capacities; and such meetings will be solely for the purposes of exchanging views, information, or advice relating to the management or implementation of federal programs established pursuant to public law that explicitly or inherently share intergovernmental responsibilities or administration.

Nominations: HRSA is requesting nominations of tribal officials to serve as HRSA TAC delegate members to fill up to 12 voluntary positions on the HRSA TAC; one authorized tribal representative (and one designated alternate) from each of the 12 Indian Health Service geographic areas. The HRSA Administrator will appoint HRSA TAC delegate members with the expertise needed to fulfill the duties of the HRSA TAC. Nominees will be considered in the following priority order:

1. Tribal president, chairperson, or governor;

2. Tribal vice president, vice-chairperson, or lieutenant governor;

3. Elected or appointed tribal official; and

4. Designated tribal official.

Interested applicants may self-nominate or be nominated by another individual or organization.

Individuals selected for appointment to the HRSA TAC will be invited to serve terms of up to 2 years. Appointed delegate members will receive per diem and travel expenses incurred for attending HRSA TAC meetings and/or conducting other authorized and approved business on behalf of the HRSA TAC.

The following information must be included in the package of materials submitted for each individual nominated for consideration: (1) Name of the nominee, a description of the interests the nominee would represent, a description of the nominee's experience and interest in AI/AN access to health care, and share if the nominee has knowledge and experience with HRSA programs (optional); (2) evidence that the nominee is a duly elected or appointed tribal leader or tribal officer, or has been designated with authority to act on behalf of the duly elected or appointed tribal leader or officer, and is authorized to represent a tribal government; (3) a written commitment from the nominee that they will actively participate in good faith in HRSA TAC meetings; and (4) a current copy of the nominee's curriculum vitae. Nomination packages may be submitted directly by the individual being nominated or by the person/organization recommending the candidate.

HHS endeavors to ensure that the membership of the HRSA TAC is fairly balanced in terms of points of view represented and that individuals from a broad representation of geographic areas, gender, and ethnic and minority groups, as well as individuals with disabilities, are considered for membership. Appointments shall be made without discrimination on the basis of age, ethnicity, gender, sexual orientation, or cultural, religious, or socioeconomic status.

Authority: Pursuant to Presidential Executive Order No. 13175 (November 6, 2000) and the Presidential Memorandum of November 5, 2009, HRSA has established a Tribal Consultation Policy for working with federally-recognized tribes on a government-to-government basis. HHS has adopted a Tribal Consultation Policy that applies to all HHS Operating Divisions, including HRSA. The HHS Tribal Consultation Policy directs Operating Divisions to establish a process to ensure meaningful consultation and timely input from Indian tribes before actions are taken that will significantly affect Indian tribe(s).

Additionally and pursuant to the authority of the Secretary's Tribal Advisory Committee (STAC) Rules of Order, the HRSA TAC may be established per the Acting Assistant Secretary's Memorandum of March 7, 2013, which provides the authority to establish committees to support and accomplish the objectives of HHS.

Dated: January 30, 2020.
Thomas J. Engels,
Administrator.

[FR Doc. 2020-02356 Filed 2-5-20; 8:45 am]

BILLING CODE 4165-15-P